ENVIRONMENTAL PROTECTION AGENCY

[FRL-12091-01-R8]

Clean Air Act Operating Permit Program; Order on Petition for Objection to State Operating Permit for Mountain Coal Company—West Elk Mine

AGENCY: Environmental Protection Agency (EPA).

ACTION: Notice of final order on petition.

SUMMARY: The Environmental Protection Agency (EPA) Administrator signed an order dated May 24, 2024, granting in part and denying in part a petition dated January 30, 2024, from Center for Biological Diversity and WildEarth Guardians. The petition requested that the EPA object to a Clean Air Act (CAA) operating permit issued by the Colorado Department of Public Health and Environment (CDPHE) to Arch Coal, Inc. for its West Elk Coal Mine located in Gunnison County, Colorado.

FOR FURTHER INFORMATION CONTACT: Julia Witteman, EPA Region 8, telephone number: (303) 312-6156, email address: witteman.julia@epa.gov. The final order and petition are available electronically at: https://www.epa.gov/title-v-operating-permits/title-v-petition-database.

SUPPLEMENTARY INFORMATION: The EPA received a petition from the Center for Biological Diversity and WildEarth Guardians dated January 30, 2024, requesting that the EPA object to the issuance of operating permit no. 20OPGU411, issued by CDPHE to Arch Coal, Inc. in Gunnison County Colorado. On December 8, 2023, the EPA Administrator issued an order granting in part and denying in part the petition. The order itself explains the basis for the EPA's decision.

Sections 307(b) and 505(b)(2) of the CAA provide that a petitioner may request judicial review of those portions of an order that deny issues in a petition. Any petition for review shall be filed in the United States Court of Appeals for the appropriate circuit no later than November 12, 2024.

KC Becker,
Regional Administrator, Region 8.

[FR Doc. 2024-20673 Filed 9-11-24; 8:45 am]

BILLING CODE 6560-50-P